DEPARTMENT OF VETERANS AFFAIRS

Advisory Committee on OIF/OEF Veterans and Families; Notice of Meeting

The Department of Veterans Affairs (VA) gives notice under Public Law 92-463 (Federal Advisory Committee Act) that the Advisory Committee on OIF/OEF Veterans and Families will conduct a site visit in the San Antonio, Texas area on January 29-31, 2008. The site visit will include a town hall meeting, tours and briefings at various VA facilities and Brooke Army Medical Center.

The purpose of the Committee is to advise the Secretary of Veterans Affairs on the full spectrum of health care, benefits delivery and related family support issues that confront servicemembers during their transition from active duty to veteran status and during their post-service years. The Committee focuses on the concerns of all men and women with active military service in Operation Iraqi Freedom and/or Operation Enduring Freedom, but pays particular attention to severely disabled veterans and their families.

On January 29, the Committee will tour the Center for the Intrepid, Burn Center and Fisher Houses at Brooke Army Medical Center. In addition, the Committee will tour the Fort Sam Houston National Cemetery.

On January 30, the Committee will tour the Audie Murphy VA Medical Center and the San Antonio Vet Center, and will receive briefings by Veterans Health Administration and Veterans Benefits Administration personnel on issues of particular relevance to OIF/OEF veterans and their families. The Committee will conduct a two hour Town Hall meeting beginning at 6:00 p.m. in the Auditorium of the Audie Murphy VA Medical Center, 7400 Merton Minter Boulevard, San Antonio, Texas. The Town Hall meeting is open to the public.

On January 31, the Committee will hold a public session at the Hilton Palacio del Rio, 200 South Alamo Street, San Antonio, Texas. The session will begin at 9:00 a.m. and adjourn at 5:00 p.m. During the session the Committee will receive a briefing on veterans employment assistance activities and an update on various independent reports. The Committee will also engage in deliberations and plans for future work.

Public comments will be received by the Committee at the Town Hall meeting on January 30. Individuals wishing to make oral statements at that meeting should contact the Committee at oifoef@va.gov. Just prior to the Town Hall meeting, there will be a sign up sheet for people to register their interest in making public statements. Oral statements by the public will be limited to five minutes each.

Anyone seeking additional information should contact Laura O'Shea, Designated Federal Officer, at (202) 461-5765.

Dated: December 19, 2007.
By Direction of the Secretary
E. Philip Riggin,
Committee Management Officer.

[FR Doc. 07-6236 Filed 12-27-07; 8:45 am]

BILLING CODE 8320-01-M